DEPARTMENT OF AGRICULTURE

Forest Service

RIN 0596-AD27

Mitigation of Adverse Impacts

AGENCY: Forest Service, USDA.

ACTION: Request for information.

SUMMARY: The Department of Agriculture (USDA), Forest Service, is developing Agency policy concerning mitigation of adverse impacts. The Agency is hosting a webinar for all interested members of the public to share information concerning its goals and objectives for the mitigation policy, and the anticipated timeline for developing the policy. Attendees will have an opportunity to ask questions and provide feedback.

DATES: A webinar will be held for interested members of the general public on Wednesday, April 6, 2016, from 1:00-2:00 p.m. Eastern Daylight Time/10:00-11:00 a.m. Pacific Daylight Time.

ADDRESSES: The webinar will be held via Adobe Connect web conferencing software. To access the presentation, enter the following URL into any Flash-enabled web browser: https://usfs.adobeconnect.com/emc-faca/. Audio-only access is available toll-free by calling (888) 844-9904 and entering the following access code: 4941314.

FOR FURTHER INFORMATION CONTACT: Christopher Carlson, Acting Mitigation Coordinator, Ecosystem Management Coordination (202) 205-1481, WO_Mitigation@fs.fed.us. Individuals who use telecommunication devices for the deaf (TDD) may call the Federal Information Relay Service (FIRS) at (800) 877-8339 between 8:00 a.m. and 8:00 p.m., Eastern Daylight Time, Monday through Friday.

SUPPLEMENTARY INFORMATION: The purpose of this RFI is to inform the public about and gather input on the Agency's forthcoming policy on mitigating adverse impacts. The webinar is open to the public. The agenda will include time for participants to ask clarifying questions and provide input in writing during the webinar. Written input following the webinar must be sent to Mitigation Policy Input, USDA Forest Service, Ecosystem Management Coordination, 201 14th Street Mail Stop 1104, Washington, DC 20250-1104; or by email at WO_Mitigation@fs.fed.us.

The November 3, 2015 Presidential Memorandum: Mitigating Impacts on Natural Resources from Development and Encouraging Related Private Investment directs the Forest Service “to avoid and then minimize harmful effects to land, water, wildlife, and other ecological resources (natural resources) caused by land- or water-disturbing activities, and to ensure that any remaining harmful effects are effectively addressed, consistent with existing mission and legal authorities.” To that end, the Memorandum instructs the Agency to “adopt a clear and consistent approach for avoidance and minimization of, and compensatory mitigation for, the impacts of their activities and the projects they approve” through directives and a regulation.

The Memorandum will be implemented by the Forest Service initially through an agency regulation addressing adverse impacts on natural resources through avoiding and minimizing impact, and then compensating for those impacts that do occur to important or sensitive resources. The objective of these efforts is to ensure clarity, improved transparency, and consistency for proposed activities affecting landscapes. Those efforts include improving information sharing and mitigation support tools by working with other Federal agencies, States, Tribes, and partners to identify and share information in order to define natural resources baselines and monitor the effectiveness of mitigation actions.

Dated: March 21, 2016.
Brian Ferebee,
Associate Deputy Chief of National Forest System, U.S. Forest Service.

[FR Doc. 2016-06857 Filed 3-25-16; 8:45 am]

BILLING CODE 3411-15-P